DEPARTMENT OF COMMERCE

International Trade Administration

The Manufacturing Council: Meeting

AGENCY: International Trade Administration, U.S. Department of Commerce.

ACTION: Notice of an open meeting.

SUMMARY: The Manufacturing Council will hold an introductory meeting with the Secretary of Commerce to discuss topics related to the U.S. manufacturing sector.

DATES: July 20, 2009.

Time: 10:30 a.m.-3 p.m.

Location: U.S. Department of Commerce, Room 4832, 1401 Constitution Avenue, NW., Washington, DC 20230.

FOR FURTHER INFORMATION CONTACT: J. Marc Chittum, The Manufacturing Council, Room 4043, 1401 Constitution Avenue, NW., Washington, DC 20230; telephone: 202-482-4501; and e-mail: Marc.Chittum@mail.doc.gov.

Dated: June 23, 2009.
J. Marc Chittum,
Executive Secretary, The Manufacturing Council.

[FR Doc. E9-15232 Filed 6-26-09; 8:45 am]

BILLING CODE 3510-DR-P